FEDERAL ELECTION COMMISSION

Sunshine Act Meeting

TIME AND DATE: Tuesday, September 14, 2021 at 10:00 a.m.

PLACE: 1050 First Street NE, Washington, DC (this meeting will be a virtual meeting).

STATUS: This meeting will be closed to the public.

MATTERS TO BE CONSIDERED:

Compliance matters pursuant to 52 U.S.C. 30109.

Matters relating to internal personnel decisions, or internal rules and practices.

Investigatory records compiled for law enforcement purposes and production would disclose investigative techniques.

Matters concerning participation in civil actions or proceedings or arbitration.

* * * * *

CONTACT PERSON FOR MORE INFORMATION: Judith Ingram, Press Officer; Telephone: (202) 694-1220.

Vicktoria J. Allen,
Acting Deputy Secretary of the Commission.

[FR Doc. 2021-19597 Filed 9-7-21; 4:15 pm]

BILLING CODE 6715-01-P